Proclamation 8726 of October 3, 2011

National Disability Employment Awareness Month, 2011

By the President of the United States of America

A Proclamation

Utilizing the talents of all Americans is essential for our Nation to out-innovate, out-educate, and out-build the rest of the world. During National Disability Employment Awareness Month, we recognize the skills that people with disabilities bring to our workforce, and we rededicate ourselves to improving employment opportunities in both the public and private sectors for those living with disabilities.

More than 20 years after the signing of the Americans with Disabilities Act, individuals with disabilities, including injured veterans, are making immeasurable contributions to workplaces across our country. Unfortunately, the unemployment rate for people with disabilities remains too high—nearly double the rate of people without disabilities—and reversing this trend is crucial.

In both the public and private sectors, we can increase employment opportunities for Americans with disabilities. My Administration is promoting competitive, integrated employment for persons with disabilities and the elderly through the Centers for Medicare and Medicaid Services. Last year, we also recommitted to making the Federal Government a model employer for people living with disabilities. Agencies are working harder than ever to promote equal hiring practices and increase retention, while also expanding internships, fellowships, and training opportunities.

We know education is the foundation on which all children can build bright and successful futures, and no child should be limited in his or her desire to learn. In September, we announced the final regulations under the Individuals with Disabilities Education Act, Part C, to improve services and outcomes for infants and toddlers with disabilities and their families during the critical years before kindergarten. The educational environments we are creating for children with disabilities will ensure they are better prepared to succeed in the classroom and later in the workplace, helping position our Nation to lead in the 21st century.

Work accessibility is just as vital to success as ensuring educational and hiring opportunities. Public transportation is a service that should be available to all Americans, and rules instated this year by the Department of Transportation require new rail construction or renovations to ensure accessibility to persons with disabilities. We are also improving our compliance with Section 508 of the Rehabilitation Act to make Federal agencies’ electronic and information technology more accessible to individuals with disabilities. This will ensure all applicants have equal opportunity to apply for jobs, and it will allow Federal employees to better use technology at work.

To win the future, we must harness the power of our Nation’s richest resource—our people. Americans with disabilities, like all Americans, are entitled to not only full participation in our society, but also full opportunity in our society. Their talents and contributions are vital to the strength of our Nation’s workforce and our future prosperity. Together, we can ensure persons living with disabilities have equal access to employment, and to inclusive, supportive workplaces.

NOW, THEREFORE, I, BARACK OBAMA, President of the United States of America, by virtue of the authority vested in me by the Constitution and the laws of the United States, do hereby proclaim October 2011 as National Disability Employment Awareness Month. I urge all Americans to embrace the talents and skills that individuals with disabilities bring to our workplaces and communities and to promote the right to equal employment opportunity for all people.

IN WITNESS WHEREOF, I have hereunto set my hand this third day of October, in the year of our Lord two thousand eleven, and of the Independence of the United States of America the two hundred and thirty-sixth.

[FR Doc. 2011-26146

Filed 10-6-11; 8:45 am]

Billing code 3295-F2-P